DEPARTMENT OF THE TREASURY

Internal Revenue Service

26 CFR Part 1

[REG-155164-09]

RIN 1545-BJ48

United States Property Held by Controlled Foreign Corporations in Transactions Involving Partnerships; Rents and Royalties Derived in the Active Conduct of a Trade or Business; Correction

AGENCY: Internal Revenue Service (IRS), Treasury.

ACTION: Correction to notice of proposed rulemaking.

SUMMARY: This document contains corrections to a notice of proposed rulemaking (REG-155164-09) that was published in the Federal Register on Wednesday, September 2, 2015 (80 FR 53058). The proposed rules are regarding the treatment as United States property of property held by a controlled foreign corporation in connection with certain transactions involving partnerships.

DATES: Written or electronic comments and request for a public hearing for the notice of proposed rulemaking at 80 FR 53058, September 2, 2015, are still being accepted and must be received by December 1, 2015.

FOR FURTHER INFORMATION CONTACT: Rose E. Jenkins, at (202) 317-6934 (not a toll-free number).

SUPPLEMENTARY INFORMATION:

Background

The notice of proposed rulemaking that is the subject of this document is under sections 954 and 956 of the Internal Revenue Code.

Need for Correction

As published, the notice of proposed rulemaking (REG-155164-09) contains errors that are misleading and are in need of clarification.

Correction to Publication

Accordingly, the notice of proposed rulemaking, that is the subject of FR Doc. 2015-21572, is corrected as follows:

1. On page 53059, in the preamble, third column, sixth line of the second full paragraph, the language “in Part I.B of this preamble for” is corrected to read “in Part 1.B of this preamble for”.

2. On page 53061, in the preamble, third column, fourth line from the top of the column, the language “determined under § 1.956-4(b).” is corrected to read “determined under proposed § 1.956-4(b).”.

§ 1.956-4 [Corrected]

3. On page 53067, third column, second line of paragraph (c)(4) Example 2. (i), the language “same as in paragraph (i) of Example 1, except” is corrected to read “same as in Example 1, except”.

4. On page 53068, paragraph (f), remove the language “[DATE OF PUBLICATION OF FINAL RULE]” and add the language “the date of publication in the Federal Register of the Treasury Decision adopting this rule as a final regulation” wherever it appears.

Martin V. Franks,
Chief, Publications and Regulations Branch, Legal Processing Division, Associate Chief Counsel (Procedure and Administration).

[FR Doc. 2015-27601 Filed 10-28-15; 8:45 am]

BILLING CODE 4830-01-P